DEPARTMENT OF LABOR

Employment and Training Administration

[TA-W-54,986]

Matsushita Electronic Components Corporation of America, a Subsidiary of Matsushita Electric Corporation of America, Including Leased Workers of Staffing Solutions, Now Known as Panasonic Electronic Devices Corporation of America, Knoxville, TN; Amended Certification Regarding Eligibility To Apply for Worker Adjustment Assistance and Alternative Trade Adjustment Assistance

In accordance with section 223 of the Trade Act of 1974 (19 U.S.C. 2273) the Department of Labor issued Amended Certification Regarding Eligibility to Apply for Worker Adjustment Assistance and Alternative Trade Adjustment Assistance on June 16, 2004, applicable to workers of Matsushita Electronic Components Corporation of America, a subsidiary of Matsushita Electric Corporation of America, including leased workers of Staffing Solutions, Knoxville, Tennessee. The notice was published in the Federal Register on July 7, 2004 (69 FR 40984).

At the request of a company official, the Department reviewed the certification for workers of the subject firm. The workers are engaged in the production of speakers, capacitors and aluminum foil.

New information shows that as the result of a corporate decision, Matsushita Electronic Components Corporation of America, a subsidiary of Matsushita Electric Corporation of America will become known as Panasonic Electronic Devices Corporation of America as of April 1, 2005. Workers separated from employment as the subject firm will have their wages reported under a separate unemployment insurance (UI) tax account for Panasonic Electronic Devices Corporation of America. Accordingly, the Department is amending this certification to properly reflect this matter.

The intent of the Department's certification is to include all workers of Matsushita Electronic Components Corporation of America, a subsidiary of Matsushita Electric Corporation of America who were adversely affected by a shift in production to China.

The amended notice applicable to TA-W-54,986 is hereby issued as follows:

All workers of Matsushita Electronic Components Corporation of America, a subsidiary of Matsushita Electric Corporation of America, now known as Panasonic Electronic Devices Corporation of America, including leased workers of Staffing Solutions, Knoxville, Tennessee, who became totally or partially separated from employment on or after May 25, 2003, through June 16, 2006, are eligible to apply for adjustment assistance under Section 223 of the Trade Act of 1974, are also eligible to apply for alternative trade adjustment assistance under Section 246 of the Trade Act of 1974.

Signed at Washington, DC, this 8th day of March, 2005.
Linda G. Poole,
Certifying Officer, Division of Trade Adjustment Assistance.

[FR Doc. E5-1236 Filed 3-21-05; 8:45 am]

BILLING CODE 4510-30-P